DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Diagnosing and Treating Cancer Using Beta-Catenin Splice Variants

Description of Technology: This application discloses and claims inventions which may be used alone or together. One group of inventions relates to early detection diagnostic, prognostic and patient monitoring methods (“Diagnostic Methods”). The other group of inventions relates to methods of treatment. Both groups of inventions have particular application with respect to esophageal squamous cell cancers (ESCC) or other types of adenocarcinomas and squamous cell carcinomas.

The Diagnostic Methods are useful in evaluating the status of preneoplastic lesions as well as tumor tissue. Because of this, the methods can be used to track the progression or regression of disease in many types of cell samples from normal to dysplasia to cancer.

The Diagnostic Methods involve measuring the level of one or more pairs of transcripts or the protein products of these pairs of transcripts or the cellular localization of the transcripts or proteins. The primary transcripts or protein products useful in this method are those of the beta-Catenin gene (CTNNB1). In particular, the levels of the 16A and 16B CTNNB1 transcripts or protein products are of importance in carrying out the methods of this patent application. Other gene transcripts or protein products that may be used in conjunction with CTNNB1 16A and 16B to provide additional information are WAF1 (p21) and cMYC.

The treatment methods include employing small interfering RNA molecules (siRNAs) as a means to alter the expression of one or more of these particular CTNNB1 transcripts. More specifically, preferred siRNA molecules can be used to alter the expression of the CTNNB1 transcripts 16A and/or 16B. These siRNA molecules may be single-stranded (ss) or double-stranded (ds) and may be delivered using a construct capable of producing the siRNA molecule upon delivery to the target cell.

Applications: Diagnostic or prognostic methods for squamous cell cancers and adenocarcinomas; Monitoring therapeutic response during and after patient treatment; Development of cancer treatments; Basic research to further elucidate the role of beta catenin in signal transduction pathways and carcinogenesis.

Development Stage: The use of beta catenin transcripts to provide prognostic or diagnostic information remains the subject of research but early patient data is found in the article in Genes Chromosomes & Cancer listed below. Work related to the use of siRNA as a treatment strategy remains in its early stages of research and has not yet progressed to clinical trials.

Inventors: Mark J. Roth and Konrad Huppi (NCI).

Publications:

1. The patent application has been published as WO 2006/086772 A2 on 17 August 2006.

2. MJ Roth et al. beta-Catenin splice variants and downstream targets as markers for neoplastic progression of esophageal cancer. Genes Chromosomes Cancer. 2005 Dec;44(4):423-428.

3. SE Martin et al. Multiplexing siRNAs to compress RNAi-based screen size in human cells. Nucleic Acids Res. 2007 Mar 28; E published ahead of print, doi:10.1093/nar/gkm141.

4. A Thiele et al. AU-rich elements and alternative splicing in the beta-Catenin 3' UTR can influence the human beta-Catenin mRNA stability. Exp Cell Res. 2006 Jul;312:2367-2378.

Patent Status:

PCT/US2006/05032 filed 10 Feb 2006 and published as WO 2006/086772 on 17 Aug 2006, currently pending, entitled “Method of Diagnosing and Treating Cancer Using Beta Catenin Splice Variants” (HHS Reference No. E-018-2005/2-PCT-01);

U.S. Provisional Application No. 60/667,084 filed 30 Mar 2005, now abandoned (HHS Reference No. E-018-2005/1-US-01);

U.S. Provisional Application No. 60/652,154 filed 10 Feb 2005, now abandoned (HHS Reference No. E-018-2005/0-US-01).

Biological Materials Availability: Biological materials related to this technology are available and include those referred to in the following publications as well as a series of recently established aptamers capable of specific binding to the CTNNB1 protein.

1. MJ Roth et al. Cytologic detection of esophageal squamous cell carcinoma and precursor lesions using balloon and sponge samplers in asymptomatic adults in Linxian, China. Cancer. 1997 Dec 1;80(11):2047-2059.

2. Q-J Pan et al. Cytologic detection of esophageal squamous cell carcinoma and its precursor lesions using balloon samplers and liquid-based cytology in asymptomatic adults in Linxian, China. ACTA Cytologica (In Press).

3. MJ Roth et al. A study of beta-catenin splice variants and associated downstream targets as markers for neoplastic progression of squamous cell carcinoma of the esophagus. Genes Chromosomes Cancer. 2005 Dec;44(4):423-428.

4. PJ Limburg et al. Randomized, placebo-controlled esphogeal squamous cell cancer chemoprevention trial of selenomethionine and celecoxib. Gastroenterology. 2005 Sept;129(3):863-873.

Licensing Availability: This application is available for license on a non-exclusive or exclusive basis.

Licensing Contact: Susan S. Rucker, Esq.; 301/435-4478; ruckersu@mail.nih.gov

Collaborative Research Opportunity: The National Cancer Institute, Division of Cancer Epidemiology and Genetics, is seeking statements of capability or interest from parties interested in collaborative research to further develop, evaluate, or commercialize a method of diagnosing and treating cancer using beta-Catenin splice variants. Please contact John D. Hewes, PhD at 301-435-3121 or hewesj@mail.nih.gov for more information. 8356

Dated: April 25, 2007.
Steven M. Ferguson,
Director, Division of Technology Development and Transfer, Office of Technology Transfer, National Institutes of Health.

[FR Doc. E7-8356 Filed 5-1-07; 8:45 am]

BILLING CODE 4140-01-P